DEPARTMENT OF AGRICULTURE

National Agricultural Library

Notice of Intent To Seek Approval To Collect Information

AGENCY: Agricultural Research Service, National Agricultural Library, USDA.

ACTION: Notice and request for comments.

SUMMARY: In accordance with the Paperwork Reduction Act of 1995 (Pub. L. 104-13) and Office of Management and Budget (OMB) regulations at 5 CFR part 1320, this notice announces the National Agricultural Library's intent to request renewal of an information collection relating to existing nutrition education materials (i.e. recipes and cookbooks) targeting low-income and Supplemental Nutrition Assistance Program (SNAP) eligible persons. These two voluntary forms give SNAP Education (SNAP-Ed) providers the opportunity to share resources that they have developed or used.

DATES: Comments on this notice must be received by September 19, 2011 to be assured of consideration.

ADDRESSES: You may submit comments by any of the following methods:

• Agency Web site: http://www.nal.usda.gov/fsn/contact.php. Follow the instructions for submitting comments on the SNAP-Ed Connection Web site.

• E-mail: rachel.tobin@ars.usda.gov

• Fax: 301-504-6409 attention SNAP-Ed Connection.

• Mail/Hand Delivery/Courier: SNAP-Ed Connection/National Agricultural Library, 10301 Baltimore Ave, Room 105, Beltsville, Maryland 20705-2351

SUPPLEMENTARY INFORMATION: Title: SNAP-Ed Connection Recipe Submission and Review Form.

OMB Number: 0518-0043.

Expiration Date: 3 years from date of approval.

Type of Request: Renewal of existing data collection from SNAP Education providers.

Abstract: The National Agricultural Library's SNAP-Ed Connection (formerly the Food Stamp Nutrition Connection) http://snap.nal.usda.gov resource system developed and maintains an on-line recipe database, the Recipe Finder, as a popular feature to the SNAP-Ed Connection Web site. The purpose of the Recipe Finder database is to provide SNAP-Ed providers with low-cost, easy-to-prepare, healthy recipes for classes and demonstrations with SNAP-Ed participants. SNAP-Ed staff members rely on these same educators to submit their best recipes for review, analysis, and inclusion in the database. SNAP-Ed staff and providers benefit from collecting and posting feedback on individual recipes based on educator experiences. Data collected using the voluntary Recipe Finder Submission Form help SNAP-Ed Connection staff identify a recipe's eligibility and appropriateness for inclusion in the Recipe Finder database. Criteria for recipe inclusion in the Recipe Finder database can be found on the SNAP-Ed Connection Web site at: http://snap.nal.usda.gov/nal_display/index.php?info_center=15&tax_level=2&tax_subject=267&topic_id=1515. The Recipe Finder Submission Form allows SNAP-Ed providers to submit recipes on-line, saving time and money by eliminating the need to photocopy and mail or fax recipes. Data collected from the Recipe Review Form help educators share their successes or identify opportunities for improvement when incorporating these recipes into their nutrition education efforts.

The two online submission forms will continue to serve as an efficient vehicle that allows SNAP-Ed Connection staff to communicate with SNAP-Ed providers and inform other interested parties of healthy recipes that are appropriate for low-income Americans.

Estimate of Burden for Recipe Submission Form

Public reporting burden for this collection of information is estimated to average 7.5 minutes per response.

Respondents: SNAP-Ed providers.

Estimated Number of Respondents: 100 per year.

Estimated Total Annual Burden on Respondents: 12.5 hrs.

Estimate of Burden for Recipe Review Form

Public reporting burden for this collection of information is estimated to average 7 minutes per response.

Respondents: SNAP-Ed providers.

Estimated Number of Respondents: 150 per year.

Estimated Total Annual Burden on Respondents: 17.5 hrs.

Copies of this information collection and related instructions can be obtained without charge on the SNAP-Ed Connection Web site at http://www.nal.usda.gov/fsn/add_recipe.shtml and http://www.nal.usda.gov/fsn/rate_recipe.shtml.

Comments

Comments are invited on (a) Whether the proposed collection of information is necessary for the proper performance for the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for OMB approval. All comments will become a matter of public record.

Dated: June 30, 2011.
Edward B. Knipling,
Administrator, ARS.

[FR Doc. 2011-18052 Filed 7-18-11; 8:45 am]

BILLING CODE 3410-03-P